GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street NW., Washington, DC 20405.

SUPPLEMENTARY INFORMATION: GSA undertook and completed an agency wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also includes the new requirement from OMB Memorandum M-07-16 regarding a new routine use that allows agencies to disclose information in connection with a response and remedial efforts in the event of a data breach.

Dated: April 16, 2008.
Cheryl M. Paige,
Director, Office of Information Management.

GSA/GOV-8

System Name:

Excluded Parties List System (EPLS).

System Location:

The General Services Administration's (GSA) Office of the Chief Acquisition Officer (OCAO) is the owner of the system. The system of records is maintained by a contractor. Contact the system manager for additional information.

Categories of Individuals Covered by the System:

a. Individuals excluded or disqualified under a Federal agency's codification of the Common Rules on Nonprocurement suspension and debarment, or otherwise declared ineligible from receiving certain Federal assistance and/or benefits.

b. Individuals debarred, suspended, proposed for debarment, or otherwise declared ineligible from participating in Federal procurement programs.

c. Individuals barred or suspended from acting as sureties for bid and performance bond activity in procurement programs.

d. Individuals barred from entering the United States.

e. Individuals that may be subject to sanctions pursuant to 31 CFR Parts 500-599 and subparts there under.

Categories of Records in the System:

Information entered by Federal agencies that identifies excluded individuals and the applicable authority, in the form of cause and treatment (CT) codes, under which the exclusion was made.

Authorities For Maintenance of the System:

The authorities for maintaining the system are the Federal Acquisition Regulation Subparts 9.4 and 28.2; Executive Order 12549 (February 18, 1986); Executive Order 12689 (August 16, 1989); and 31 U.S.C. Sec. 6101, note.

Purpose:

To maintain a Governmentwide system of records that identifies individuals who have been excluded from participating in Federal procurement and nonprocurement (financial or non-financial assistance and benefits programs), throughout the Federal government. In some instances a record may demonstrate that an exclusion applies only to the agency taking the action, and therefore, does not have Governmentwide effect. The purpose of these exclusions is to protect the Government from nonresponsible contractors and individuals, ensure proper management throughout the Federal government, and protect the integrity of Federal activities.

Routine Uses of Records in the System, Including the Types of Users and Their Purposes for Using the Records:

a. To contracting officers and other Federal, State, and local government employees involved in procuring goods and services with Federal funds or administering Federal financial assistance programs or benefits to determine a party's eligibility status to participate in Federal procurement and nonprocurement programs.

b. To a Federal, State, local, or foreign agency responsible for investigating, prosecuting, enforcing, or carrying out a statute, rule, regulation, or order where the records clearly indicate, or when seen with other records indicate, a violation of civil or criminal law or regulation, when the information is needed to perform a Federal duty or to decide the issues.

c. To a Federal, State or local agency, financial institution or a healthcare or industry provider that administers Federal financial or non-financial assistance programs or benefits, when the information is needed to determine eligibility.

d. To an expert, consultant, contractor, Federal, State or local agency, or financial institution, when the information is needed to perform a Federal duty.

e. To an appeal, grievance, or formal complaints examiner, an equal employment opportunity investigator, an arbitrator, a union representative, or other official engaged in investigating or settling a grievance, complaint, or appeal filed by an employee, when the information is needed to decide the issues.

f. To a requesting Federal, State or local agency, financial institution, or a healthcare or industry provider in connection with hiring or retaining an employee, issuing a security clearance, investigating an employee, clarifying a job, letting a contract, or issuing a license, grant, or other benefit by the requesting agency where the information is needed to decide on a Federal financial or non-financial assistance program or benefit.

g. To a member of Congress or to a congressional staff member in response to a request from the person who is the subject of the record, when the information is needed to perform a Federal duty.

h. To the Department of Justice when an agency, an agency employee, or the United States is a party to or has an interest in litigation, and the records are needed to pursue the litigation.

i. To a court or judicial body when an agency, an agency employee, or the United States is a party to or has an interest in litigation, and the records are needed to pursue the litigation.

j. To the Office of Personnel Management (OPM), the Office of Management and Budget (OMB), the Government Accountability Office (GAO) or the Interagency Suspension and Debarment Committee (ISDC) when the information is required for program evaluation purposes.

k. To the National Archives and Records Administration (NARA) for records management purposes.

l. To appropriate agencies, entities, and persons when (1) The Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

Policies and Practices for Storing, Accessing, Retrieving, Maintaining, and Disposing of Records in the System:

Storage:

Electronic records are stored on readily accessible servers and backed up to tape media. Paper records are stored in file folders.

Retrievability:

Electronic records are retrieved by Exact Name, Partial Name, Action Dates, Termination Dates, Create Dates, Data Universal Numbering System (DUNS), Classification, Exclusion Type, CT Code, Agency, U.S. State, Country, Cage Code, verification of Name with the Social Security Number (SSN) or the Tax Identification Number (TIN), and verification of Name with residential street address.

Safeguards:

System records are safeguarded in accordance with the requirements of the Privacy Act of 1974, as amended, the Computer Security Enhancement Act of 1997, and the EPLS Security Plan. Technical, administrative, and personnel security measures are implemented to ensure confidentiality and integrity of the system data that is stored, processed, and transmitted. Paper records are stored in locked filing cabinets when not in use or are kept in secured rooms, accessible to authorized users only. The Debar Maintenance and Administration portals are ID and password protected. The public portal does not require ID and passwords because privacy protected information is not available on the public site.

Retention and Disposal:

Electronic records of past exclusions are maintained permanently in the archive list for historical reference. Federal agencies reporting exclusion information in the EPLS should follow their agency's guidance and policies for disposition of paper records.

SYSTEM MANAGER(S) AND ADDRESS:

Integrated Acquisition Environment Program Manager, Office of the Chief Acquisition Officer, General Services Administration, 2011 Crystal Drive, Suite 911, Arlington, VA 22202.

Notification Procedure:

Individuals receive prior notification that their names will be contained in the EPLS from the Agency that takes the action to exclude them from Federal procurement and nonprocurement programs. An individual may retrieve system records by accessing the EPLS public portal, which displays publicly available information only.

Record Access Procedure:

Requests from individuals to determine the specifics of a record included in the EPLS should be addressed to the Agency Point of Contact (POC) identified in the record.

Contesting Record Procedure:

The procedures for contesting the content of a record and appealing an initial decision may be found in 41 CFR Part 105-64. Individuals should contact the Agency Point of Contact (POC) identified in the record to commence a record contest or appeal.

Record Sources:

Federal agencies are the source for entering record information in the EPLS.

[FR Doc. E8-8882 Filed 4-24-08; 8:45 am]

BILLING CODE 6820-34-P